GENERAL SERVICES ADMINISTRATION

48 CFR Parts 523 and 552

[GSAR Case 2006-G506; Docket 2009-0005; Sequence 1]

RIN 3090-AI82

General Services Acquisition Regulation; GSAR Case 2006-G506; Rewrite of Part 523, Environment, Conservation, Occupational Safety and Drug-Free Workplace

AGENCY: Office of the Chief Acquisition Officer, General Services Administration (GSA).

ACTION: Proposed rule.

SUMMARY: The GSA is proposing to amend the General Services Acquisition Regulation (GSAR) to update the text addressing environment, conservation, occupational safety and drug-free workplace.

DATES: Interested parties should submit written comments to the Regulatory Secretariat on or before May 19, 2009 to be considered in the formulation of a final rule.

ADDRESSES: Submit comments identified by GSAR Case 2006-G506 by any of the following methods:

• Regulations.gov: http://www.regulations.gov.

Submit comments via the Federal eRulemaking portal by inputting “GSAR Case 2006-G506” under the heading “Comment or Submission”. Select the link “Send a Comment or Submission” that corresponds with GSAR Case 2006-G506. Follow the instructions provided to complete the “Public Comment and Submission Form”. Please include your name, company name (if any), and “GSAR Case 2006-G506” on your attached document.

• Fax: 202-501-4067.

• Mail: General Services Administration, Regulatory Secretariat (VPR), 1800 F Street, NW., Room 4041, ATTN: Hada Flowers, Washington, DC 20405.

Instructions: Please submit comments only and cite GSAR Case 2006-G506 in all correspondence related to this case. All comments received will be posted without change to http://www.regulations.gov, including any personal and/or business confidential information provided.

FOR FURTHER INFORMATION CONTACT: For clarification of content, contact Mr. William Clark at (202) 219-1813, or by e-mail at william.clark@gsa.gov. For information pertaining to the status or publication schedules, contact the Regulatory Secretariat (VPR), Room 4041, GS Building, Washington, DC 20405, (202) 501-4755. Please cite GSAR Case 2006-G506.

SUPPLEMENTARY INFORMATION:

A. Background

The GSA is amending the GSAR to update the text addressing GSAR Part 523, Environment, Energy and Water Efficiency, Renewable Energy Technologies, Occupational Safety, and Drug-Free Workplace. This rule is a result of the GSA Acquisition Manual (GSAM) rewrite initiative undertaken by GSA to revise the GSAM to maintain consistency with the FAR and implement streamlined and innovative acquisition procedures that contractors, offerors, and GSA contracting personnel can utilize when entering into and administering contractual relationships. The GSAM incorporates the GSAR as well as internal agency acquisition policy. The GSA will rewrite each part of the GSAR and GSAM, and as each GSAR part is rewritten, will publish it in the Federal Register.

This proposed rule changes the title of Part 523 to “Environment, Energy and Water Efficiency, Renewable Energy Technologies, Occupational Safety, and Drug-Free Workplace,” to correspond to the title in FAR Part 23. The title for Subpart 523.3 is changed to “Hazardous Material Identification and Material Safety Data” to be consistent with the corresponding FAR subpart.

In addition, this proposed rule amends the GSAR to delete clause 552.223-70, Hazardous Substances, in its entirety because it does not contain all of the required statutes for shipping hazardous materials. It is replaced with two new hazardous materials clauses.

Clause 552.223-70, Preservation, Packaging, Packing, Marking and Labeling of Hazardous Materials (HAZMAT) for Export Shipment, is added to require compliance by contractors with the International Maritime Dangerous Goods (IMDG) Code, the Occupational Safety and Health Regulation, and the applicable Modal Regulation, which are mandated in the new GSAR clause as they pertain to export shipping. This clause also contains a requirement for compliance by contractors with the Air Force Inter-Service Manual (AFIM) 24-204 for military aircraft shipments.

Clause 552.223-73, Preservation, Packaging, Packing, Marking and Labeling of Hazardous Materials (HAZMAT) for Domestic Shipment, is added to require compliance by contractors with the U.S. Department of Transportation Hazardous Material Regulation and the Occupational Safety and Health Administration Regulation.

In addition, the provision at 552.212-72, Contract Terms and Conditions Required to Implement Statutes or Executive Orders Applicable to GSA Acquisition of Commercial Items, is updated to include the new hazardous material clauses.

The GSA published an Advance Notice of Proposed Rulemaking (ANPR) in the Federal Register at 71 FR 7910 on February 15, 2006, with request for comments on the GSAM rewrite initiative. The GSA did not receive any comments pertaining to GSAR Part 523.

This is not a significant regulatory action and, therefore, was not subject to review under Section 6(b) of Executive Order 12866, Regulatory Planning and Review, dated September 30, 1993. This rule is not a major rule under 5 U.S.C. 804.

B. Regulatory Flexibility Act

The GSA does not expect this proposed rule to have a significant economic impact on a substantial number of small entities within the meaning of the Regulatory Flexibility Act, 5 U.S.C. 601, et seq., because there are no substantive changes. An Initial Regulatory Flexibility Analysis has, therefore, not been performed. We invite comments from small businesses and other interested parties. The GSA will consider comments from small entities concerning the affected GSAR Part 523 and 552 in accordance with 5 U.S.C. 610. Interested parties must submit such comments separately and should cite 5 U.S.C. 601, et seq. (GSAR case 2006-G506), in correspondence.

C. Paperwork Reduction Act

The Paperwork Reduction Act (Pub. L. 104-13) applies because the proposed rule contains information collection requirements. Accordingly, the Regulatory Secretariat has submitted a request for reinstatement with changes to the information collection requirement concerning Environment, Conservation, Occupational Safety and Drug-free Workplace, to the Office of Management and Budget under 44 U.S.C. 35, et seq.

Annual Reporting Burden

Public reporting burden for this collection of information is estimated to average .658 hours per response, including the time for reviewing instructions, searching existing data sources, gathering and maintaining the data needed, and completing and reviewing the collection of information.

The annual reporting burden is estimated as follows:

Respondents: 563.

Responses per respondent: 3.

Total annual responses: 1689.

Preparation hours per response: .658.

Total response burden hours: 1111.

D. Request for Comments Regarding Paperwork Burden

Submit comments, including suggestions for reducing this burden, not later than May 19, 2009 to: GSAR Desk Officer, OMB, Room 10102, NEOB, Washington, DC 20503, and a copy to the General Services Administration, Regulatory Secretariat (VPR), 1800 F Street, NW., Room 4041, Washington, DC 20405.

Public comments are particularly invited on: whether this collection of information is necessary for the proper performance of functions of the GSAR, and will have practical utility; whether our estimate of the public burden of this collection of information is accurate, and based on valid assumptions and methodology; ways to enhance the quality, utility, and clarity of the information to be collected; and ways in which we can minimize the burden of the collection of information on those who are to respond, through the use of appropriate technological collection techniques or other forms of information technology.

Requester may obtain a copy of the justification from the General Services Administration, Regulatory Secretariat (VPR), Room 4041, Washington, DC 20405, telephone (202) 208-7312. Please cite OMB Control Number 3090-0205, GSAR Case 2006-G506, Environment, Conservation, Occupational Safety and Drug-Free Workplace, in all correspondence.

List of Subjects in 48 CFR Parts 523 and 552

Government procurement.

Dated: January 13, 2009.
Al Matera,
Director, Office of Acquisition Policy.

Therefore, GSA proposes to amend 48 CFR parts 523 and 552 as set forth below:

1. The authority citation for 48 CFR parts 523 and 552 continues to read as follows:

Authority: 40 U.S.C. 121(c).

PART 523—ENVIRONMENT, ENERGY AND WATER EFFICIENCY, RENEWABLE ENERGY TECHNOLOGIES, OCCUPATIONAL SAFETY AND DRUG-FREE WORKPLACE

2. Revise the heading of part 523 as set forth above.

3. Amend section 523.303 by revising the section heading, and paragraph (a); and adding new paragraph (c) to read as follows:

523.303 Contract clauses.

(a) Insert 552.223-70, Preservation, Packaging, Packing, Marking and Labeling of Hazardous Materials (HAZMAT) for Export Shipment in solicitations and contracts for packaged items subject to the Occupational Safety and Health Act and the Hazardous Materials Transportation Act.

(c) Insert 552.223-73, Preservation, Packaging, Packing, Marking and Labeling of Hazardous Materials (HAZMAT) For Domestic Shipment, in solicitations and contracts for packaged items subject to the Occupational Safety and Health Act and the Hazardous Materials Transportation Act.

PART 552—SOLICITATION PROVISION AND CONTRACT CLAUSES

4. Amend section 552.212-72 by revising the date of the clause and paragraph (b) to read as follows:

552.212-72 Contract Terms and Conditions Required to Implement Statutes or Executive Orders Applicable to GSA Acquisition of Commercial Items.

* * * * *

CONTRACT TERMS AND CONDITIONS REQUIRED TO IMPLEMENT STATUTES OR EXECUTIVE ORDERS APPLICABLE TO GSA ACQUISITION OF COMMERCIAL ITEMS (DATE)

* * * * *

(b) Clauses.

___552.223-70 Preservation, Packaging, Packing, Marking and Labeling of Hazardous Materials (HAZMAT) for Export Shipment

___552.223-71 Nonconforming Hazardous Material

___552.223-73 Preservation, Packaging, Packing, Marking and Labeling of Hazardous Materials (Hazmat) For Domestic Shipment

___552.238-70 Identification of Electronic Office Equipment Providing Accessibility for the Handicapped

___ 552.238-72 Identification of Products that have Environmental Attributes

(End of clause)

5. Amend section 552.223-70 by revising the section heading, date of the clause, and clause to read as follows:

552.223-70 Preservation, Packaging, Packing, Marking and Labeling of Hazardous Materials (HAZMAT) for Export Shipment.

* * * * *

PRESERVATION, PACKAGING, PACKING, MARKING AND LABELING OF HAZARDOUS MATERIALS (HAZMAT) FOR EXPORT SHIPMENT (DATE)

(a) Preservation, packaging, packing, marking and labeling of hazardous materials for shipment overseas (includes Hawaii, Puerto Rico and U.S. territories) shall comply with all requirements of the following:

(1) International Maritime Dangerous Goods (IMDG) Code as established by the International Maritime Organization.

(2) Items which qualify for U.S. Department of Transportation Consumer Commodity classifications shall be packaged in accordance with the IMDG Code and dual marked with both Consumer Commodity and IMDG marking and labeling.

(3) Occupational Safety and Health Administration (OSHA) Regulation 29 (CFR) part 1910.1200.

(4) Any preservation, packaging, packing, marking and labeling requirements contained elsewhere in this solicitation.

(b) Preservation, packaging, packing, marking and labeling of overseas hazardous materials via commercial aircraft shall comply with the International Air Transport Association, Dangerous Goods Regulation (IATA).

(c) Preservation, packaging, packing, marking and labeling of HAZMAT military aircraft shipments shall comply with the requirement of AFIM 24-204, Air Force Inter-Service Manual 24-204, Preparing Hazardous Materials For Military Air Shipments.

(d) The test certification data showing compliance with performance-oriented packaging requirements shall be made available to GSA contract administration/management representatives or regulatory inspectors upon request.

(End of clause)

6. Add section 552.223-73 to read as follows:

552.223-73 Preservation, Packaging, Packing, Marking and Labeling of Hazardous Materials (Hazmat) For Domestic Shipment.

As prescribed in 523.303(c), insert the following clause:

PRESERVATION, PACKAGING, PACKING, MARKING AND LABELING OF HAZARDOUS MATERIALS (HAZMAT) FOR DOMESTIC SHIPMENT (DATE)

(a) Preservation, packaging, packing, marking and labeling of hazardous materials within the continental United States shall comply with all requirements of the following:

(1) U.S. Department of Transportation (DOT) Hazardous Material Regulation 49, CFR parts 171 through 180.

(2) Occupational Safety and Health Administration (OSHA) Regulation 29 CFR part 1910.1200.

(3) All preservation, packaging, packing, marking and labeling requirements contained elsewhere in this solicitation.

(b) Hazardous Material Packages designated for overseas destinations through the GSA Distribution Centers shall comply with the International Maritime Dangerous Goods (IMDG) Code.

(End of clause)

[FR Doc. E9-5876 Filed 3-19-09; 8:45 am]

BILLING CODE 6820-61-S